DEPARTMENT OF COMMERCE

International Trade Administration

[A-533-809]

Forged Stainless Steel Flanges from India: Extension of Time Limits for Preliminary Results of Antidumping Duty New Shipper Review

AGENCY: Import Administration, International Trade Administration, Department of Commerce.

EFFECTIVE DATE: March 20, 2008.

FOR FURTHER INFORMATION CONTACT: Fred Baker or Robert James, AD/CVD Enforcement Office 7, Import Administration, International Trade Administration, U.S. Department of Commerce, 14th Street and Constitution Avenue, NW, Washington DC 20230; telephone: (202) 482-2924 or (202) 482-0649, respectively.

SUPPLEMENTARY INFORMATION:

Background

On October 4, 2007, the Department published a notice of initiation of an antidumping duty new shipper review of forged stainless steel flanges from India. See Forged Stainless Steel Flanges from India: Notice of Initiation of Antidumping Duty New Shipper Review, 72 FR 56723 (October 4, 2007). This new shipper review covers Hot Metal Forge (India) Pvt. Ltd. (Hot Metal) and the period February 1, 2007 through July 31, 2007. The preliminary results for this new shipper administrative review are currently due no later than March 26, 2008.

Extension of Time Limits for Preliminary Results

Section 751(a)(2)(B)(iv) of the Tariff Act of 1930, as amended (the Act), requires the Department to complete the preliminary results of a new shipper administrative review within 180 days after the date on which the review is initiated. However, if the Department concludes that the case is extraordinarily complicated, it may extend the 180-day period to 300 days.

Due to the complexity of the issues the Department finds that it is not practicable to complete the preliminary results within the normal 180-day deadline. The issues include the unusual circumstances surrounding Hot Metal's third-country sales, the evaluation of the bona fide nature of Hot Metal's sales, and the need to conduct additional analysis of its reported cost of manufacturing. As a result, the Department must extend the deadline for the preliminary results of this new shipper administrative review to permit the collection and analysis of additional information concerning Hot Metal's sales processes in both the U.S. and comparison markets, and also concerning its reported cost of manufacture.

Therefore, in accordance with section 751(a)(2)(B)(iv) of the Act,the Department is extending the time limits for completion of the preliminary results of this new shipper administrative review until no later than July 24, 2008, which is 300 days from the date of initiation of this review. We intend to issue the final results of this review no later than 90 days after publication of the preliminary results.

This notice is issued and published in accordance with sections 751(a)(3)(A) and 777(i)(1) of the Act.

Dated: March 14, 2008.
Stephen J. Claeys,
Deputy Assistant Secretary for Import Administration.

[FR Doc. E8-5658 Filed 3-19-08; 8:45 am]

BILLING CODE 3510-DR-S